DEPARTMENT OF TRANSPORTATION

National Highway Traffic Safety Administration

[Docket No. NHTSA-2024-0017]

Agency Information Collection Activities; Submission to the Office of Management and Budget for Review and Approval; Request for Comment; Vehicle Information for the General Public

AGENCY: National Highway Traffic Safety Administration (NHTSA), Department of Transportation (DOT).

ACTION: Notice and request for comments on a reinstatement with change of a previously approved collection of information.

SUMMARY: In compliance with the Paperwork Reduction Act of 1995 (PRA), this notice announces that the Information Collection Request (ICR) summarized below will be submitted to the Office of Management and Budget (OMB) for review and approval. The ICR describes the nature of the information collection and its expected burden. The National Highway Traffic Safety Administration (NHTSA) seeks public comment about our intention to request the Office of Management and Budget's (OMB) approval on the reinstatement with change of a previously approved information collection. A Federal Register Notice with a 60-day comment period soliciting comments on the following information collection was published on December 31, 2024. Two comments were received.

DATES: Comments must be submitted on or before June 27, 2025.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Jennifer Lee, U.S. Department of Transportation, NHTSA, 1200 New Jersey Avenue SE, Washington, DC 20590. Ms. Lee's telephone number is (202) 366-7695. Please identify the relevant collection of information by referring to its OMB Control Number (OMB Control number: 2127-0629).

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Vehicle Information for the General Public.

OMB Control Number: 2127-0629.

Form Number: 1102.

Type of Request: Reinstatement with change of a previously approved collection.

Type of Review Requested: Regular.

Length of Approval Requested: Three years from date of approval.

Summary of the Collection of Information: NHTSA's mission is to save lives, prevent injury, and reduce motor vehicle crashes. Consumer information programs are an important tool for improving vehicle safety through market forces. Pursuant to 49 U.S.C. 32302, the Secretary of Transportation (NHTSA by delegation) is directed to provide to the public the following information about passenger motor vehicles: Damage susceptibility; crashworthiness, crash avoidance, and any other areas the Secretary determines will improve safety of passenger motor vehicles; and the degree of difficulty of diagnosis and repair of damage to, or failure of, mechanical and electrical systems. NHTSA established the New Car Assessment Program (NCAP) in 1978 in response to Title II of the Motor Vehicle Information and Cost Savings Act of 1972. For more than 40 years, under NCAP, NHTSA has been providing consumers with vehicle safety information such as frontal and side crash test results, advanced crash avoidance technology system performance test results, rollover propensity, and the availability of a wide array of safety features provided on new model year vehicles. Section 24213(b) of the Infrastructure Investment and Jobs Act includes requirements to add to NCAP information about advanced crash avoidance technologies and vulnerable road user safety. The information collection includes new model year vehicle information such as vehicle make, model, body style, certification style, projected sales volume, crashworthiness features, advanced crash avoidance technologies, vehicle setup information, and side air bag information. This reinstatement with change of a previously approved information collection request includes the statutory addition of these information and the corresponding increase associated with the total annual burden hours.

Description of the Need for the Information and Proposed Use of the Information: The consumer information collected will be used to disseminate vehicle safety information via the Agency's website at www.nhtsa.gov, on the Monroney labels, in other consumer publications, as well as for internal agency analyses and responses to consumer inquiries. The Agency uses this safety feature information when responding to consumer inquiries, conducting research and data analysis as well as analyzing rulemaking petitions and the regulatory impacts of Congressional Acts that require the Agency to issue or consider issuing new rules that would mandate certain vehicle safety features. Last but certainly not least, the Agency uses this information to help with the selection of certain new model year vehicle models to be tested under NCAP to (1) provide safety ratings on how well the vehicles protect vehicle occupants during the crash and (2) assess advanced driver assistance systems for performance verification.

60-Day Notice: A Federal Register notice with a 60-day comment period soliciting public comments on the following information collection was published on December 31, 2024 (89 FR 107192). In total, there were two comments. One comment was from a group of four individual households and the other comment was from the Alliance for Automative Innovation (Auto Innovators) in response to the notice. In response to the Auto Innovators' comments, NHTSA also met informally with vehicle manufacturers on March 18, 2025, to gather feedback on the NCAP information collection. Below are summaries of comments and the Agency's response to the comments.

The group of four individual households submitted and signed one comment letter which stated that NCAP does not provide consumers with information on the effectiveness of crash protection and crash avoidance technologies in crashes involving commercial motor vehicles (CMVs), particularly underride crashes. The group suggested that NHTSA amend the collection to include data on crash avoidance effectiveness in CMV-related crashes.

In response, NCAP does not provide the type of information that the comment suggested above. Specifically, NCAP provides consumers with vehicle safety information based on crash tests and ADAS performance evaluations. The main focus of the program is on high frequency crashes occurring on U.S. roadways. For example, in 2022, large trucks accounted for 5.5 percent of the vehicles involved in property damage crashes, 3.9 percent involved in injury crashes, and 9.6 percent involved in fatal crashes. Additionally, light vehicle crashes with large trucks involving underride are rare events. Thus, NCAP does not provide vehicle safety information related to passenger vehicle-to-commercial motor vehicle crashes at this time.

The Auto Innovators provided detailed comments expressing concerns with the burden of submitting extensive new vehicle information to NHTSA each year. More specifically, while the Auto Innovators support NCAP's mission and its operations, they are concerned about the expanded scope of NHTSA's NCAP information collection request, citing issues with the utility of the information collected, the excessive burden of the information collection on manufacturers, accuracy of NHTSA's estimated burden, and ways the Agency can enhance the quality, utility, and clarity of the information collection. In particular, they urged NHTSA to provide more details and justification on the specific data elements being added and how the data will be communicated to consumers on NHTSA's website. In addition, they commented on the burden created from the extensive information request letter and the Microsoft Excel submission template. Furthermore, they raised concern about the formatting changes to the template without vehicle manufacturer input, which they believe may further impact the reporting burden.

In response to the Auto Innovators' comment regarding the utility of the information collected, NHTSA reiterates the information provided in the December 2024 60-day notice. Specifically, data elements collected will be used to (1) communicate vehicle safety information to consumers via the Agency's website (www.nhtsa.gov) and at the point of sale, (2) address consumer inquiries, and (3) conduct analyses for research and rulemaking actions.

To address the Auto Innovators' concerns regarding reducing the burden, NHTSA will no longer require vehicle manufacturers to enter individual test data for Side Air Bag Out-of-Position (SAB OOP) and Crash Avoidance tests. Similarly, for the new Crashworthiness Pedestrian Protection testing program, NHTSA will not seek individual test data to be entered in the Excel spreadsheet. In addition, NHTSA plans to remove other data elements such as data collected on total battery capacity, adjustable upper shoulder belt anchorages, Event Data Recorder systems, and distraction lockout systems.

Regarding the Auto Innovators' comment on the length of the annual new vehicle information request letter, the main reasons for providing detailed instructions and examples for each question in the request letter are not only to clarify the requirements, but also to minimize errors and burden for vehicle manufacturers by reducing the amount of follow-up communications with multiple rounds of revisions.

Finally, regarding the Auto Innovators' comment that NHTSA has significantly underestimated the reporting burden associated with this information collection, the Agency notes that the 450 percent increase in burden hours estimated by the Agency for the current information collection is consistent with previous information collection estimation and consistent with the labor information available. Nevertheless, in response to the Auto Innovators' comment, NHTSA has significantly reduced the amount of information collected without reducing the estimated burden hours to account for a more accurate estimation of the information collection burden. Given the planned reduction in the data elements collected, NHTSA believes that the estimated burden hours are appropriate and responsive to the Auto Innovators' comments.

NHTSA is also working on modernizing its new vehicle information collection process by developing a database to store vehicle information collected through the annual collection process. This system (when launched) would eventually streamline the data collection process and further reduce the reporting burden on vehicle manufacturers while continually ensuring the agency continues to have necessary NCAP information for the consumers.

Affected Public: Manufacturers that sell passenger cars and light truck vehicles (including sport utility vehicles, pickup trucks, and vans) that have a GVWR of 10,000 pounds or less in the United States.

Estimated Number of Respondents: 21.

Frequency: Annually.

Estimated Number of Responses: 600.

The 21 vehicle manufacturers produce an aggregate of approximately 600 vehicle models including trim lines each year.

Estimated Total Annual Burden Hours: 9,000 hours.

NHTSA estimates that these 21 vehicle manufacturers produce an aggregate of approximately 600 vehicle models each year. NHTSA estimates the burden associated with this collection based on an expected 15 hours to prepare a response for each vehicle model.¹ Therefore, NHTSA estimates that the total burden to be 9,000 hours.

¹ NHTSA believes that the hours estimated is appropriate because the Agency has already taken steps to significantly reduce the number of questions and the total amount of data needed in the worksheet for each manufacturer's submission.

Number of vehicle models—600

Number of hours per vehicle model—15

Total annual burden hours—9,000 = (15 hours/model × 600 models)

Table 1—Burden Hour Estimates
| Vehicle models per year | Estimated hours per vehicle | Estimated total annual burden hours
Preparation of Response | 600 | 15 | 9,000

NHTSA estimates that the fifteen hours for each vehicle model will involve 6 hours of data entry (40% of the total), 7.5 hours for technical information validation (50% of the total), and 1.5 hours for technical content approval (10% of the total). Therefore, NHTSA estimates that the total annual submission will require 3,600 data entry hours, 4,500 technical information validation hours, and 900 technical content approval hours, for an annual total of 9,000 burden hours.

A breakdown of the total annual burden hours (9,000) for this collection of information by labor type is as follows:

Burden hours for data entry = 9,000 hours × 40 percent = 3,600 hours

Burden hours for technical information validation = 9,000 hours × 50 percent = 4,500 hours

Burden hours for technical content approval = 9,000 hours × 10 percent = 900 hours

Table 2—Burden Hour by Labor Type Estimates
| Hours by labor type: Percentage of total hours | Hours by labor type: Number of hours
Data Entry | 40 | 3,600
Technical Information Validation | 50 | 4,500
Technical Content Approval | 10 | 900

NHTSA estimates the total labor costs associated with the burden hours by looking at estimates from the Bureau of Labor Statistics (BLS) for the average hourly wages for Business Operations Specialists (BLS Occupation code 13-1000), Mechanical Engineers (BLS Occupation code 17-2141), and General and Operations Managers (BLS Occupation code 11-1021) in the Motor Vehicle Manufacturing Industry. The labor cost (by labor type) associated with this collection of information is derived by (1) applying appropriate average hourly labor rate published by the Bureau of Labor Statistics, (2) dividing by 0.705 ² to obtain the total compensation rate for private industry workers, and (3) multiplying by the estimated labor hours for each labor type.

² See Table 1. Employer Costs for Employee Compensation by ownership (December 2024), available at https://www.bls.gov/bls/news-release/ecec.htm, last accessed March 19, 2025.

Cost associated with data entry = 3,600 hours × $47.59 ³ per hour/0.705 = $243,013

³ “Motor Vehicle Manufacturing—May 2023 OEWS Industry-Specific Occupational Employment and Wage Estimates.” April 3, 2024. Business Operations Specialists, Occupation Code 13-1000; Mean Hourly Wage = $47.59. https://www.bls.gov/oes/current/naics4_336100.htm. Accessed March 11, 2025.

Cost associated with technical information validation = 4,500 hours x $54.82 ⁴ per hour/0.705 = $349,915

⁴ “Motor Vehicle Manufacturing—May 2023 OEWS Industry-Specific Occupational Employment and Wage Estimates.” April 3, 2024. Mechanical Engineers, Occupation Code 17-2141; Mean Hourly Wage = $54.82. https://www.bls.gov/oes/current/naics4_336100.htm. Accessed March 11, 2025.

Cost associated with technical content approval = 900 hours × $77.54 ⁵ per hour/0.705 = $98,987

⁵ “Motor Vehicle Manufacturing—May 2023 OEWS Industry-Specific Occupational Employment and Wage Estimates.” April 3, 2024. General and Operations Managers, Occupation Code 11-1021; Mean Hourly Wage = $77.54. https://www.bls.gov/oes/current/naics4_336100.htm. Accessed March 11, 2025.

The percent of total compensation for private industry workers has been updated from 70.3 percent in the 60-day notice (89 FR 107192) to 70.5 percent in this 30-day notice to reflect the new compensation rate from the BLS as of March 14, 2025.⁶ Thus, the difference in the estimated annual labor cost from the previously reported estimated cost in the 60-day notice is due to the change in the percent of total compensation for private industry workers—as previously discussed and shown in Table 3 below.

⁶ See Table 1. Employer Costs for Employee Compensation by ownership (December 2024), available at https://www.bls.gov/bls/news-release/ecec.htm, last a ccessed March 19, 2025.

Total annual cost associated with this collection of information is $691,915 ($243,013 + $349,915 + $98,987).

Table 3—Estimate Annual Labor Cost
| Average wage | Percent of total compensation | Total compensation rate | Annual hours | Annual labor cost
Data Entry | $47.59 | 70.5 | $67.60 | 3,600 | $243,013
Technical Information Validation | 54.82 | 70.5 | 77.87 | 4,500 | 349,915
Technical Content Approval | 77.54 | 70.5 | 110.14 | 900 | 98,987
Estimated Annual Labor Cost for This Information Collection |  |  |  |  | 691,915

Estimated Total Annual Burden Cost: There are no costs associated with this collection other than the labor costs associated with the burden hours.

Public Comments Invited: You are asked to comment on any aspects of this information collection, including (a) whether the proposed collection of information is necessary for the proper performance of the functions of the Agency, including whether the information will have practical utility; (b) the accuracy of the Agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

David M. Hines
Acting Associate Administrator for Rulemaking.

[FR Doc. 2025-09510 Filed 5-27-25; 8:45 am]

BILLING CODE 4910-59-P